DEPARTMENT OF AGRICULTURE

Forest Service

Four Forest Restoration Initiative, Rim Country Apache-Sitgreaves, Coconino, and Tonto National Forests

AGENCY: Forest Service, USDA.

ACTION: Notice of intent to prepare an environmental impact statement.

SUMMARY: The Apache-Sitgreaves, Coconino, and Tonto National Forests are proposing to conduct restoration activities within 1.24 million acres of ponderosa pine ecosystem over approximately 10 years. Treatment areas are located on the Black Mesa, and Lakeside Ranger Districts of the Apache-Sitgreaves National Forest, the Mogollon and Red Rock Ranger Districts of the Coconino National Forest, and the Payson and Pleasant Valley Ranger Districts of the Tonto National Forest. Project treatments would occur in the vicinity of Happy Jack, Payson, Young, Heber-Overgaard, Show Low, and Pinetop-Lakeside, Arizona. The objective of this project is to re-establish forest structure, pattern, and composition, which will lead to increased forest resilience and function. Resiliency increases the ability of ponderosa pine forests to survive natural disturbances such as insects and disease, fire, and climate change.

DATES: Comments concerning the proposed action in this notice must be received by August 11, 2016. The draft environmental impact statement is expected in July 2017 and the final environmental impact statement is expected in September 2018.

ADDRESSES: Send written comments to Coconino National Forest, Attention: 4FRI, 1824 S. Thompson Street, Flagstaff, Arizona 86001. Comments may also be sent via email to 4FRI_comments@fs.fed.us, or via facsimile to (928) 527-3620.

FOR FURTHER INFORMATION CONTACT: Annette Fredette, 4FRI Planning Coordinator, at 928-226-4684, or 4FRI_comments@fs.fed.us.

Individuals who use telecommunication devices for the deaf (TDD) may call the Federal Information Relay Service (FIRS) at 1-800-877-8339 between 8 a.m. and 8 p.m., Eastern Time, Monday through Friday.

SUPPLEMENTARY INFORMATION:

Purpose of and Need for Action

The purpose of the Rim Country Project is to reestablish and restore forest structure and pattern, forest health, and vegetation composition and diversity in ponderosa pine ecosystems to conditions within the natural range of variation, thus moving the project area toward the desired conditions. The outcome of improving structure and function is increased system resiliency. Resiliency increases the ability of an ecosystem to survive natural disturbances such as fire, insects and disease, and climate change without changing its inherent function.

This project is needed to: Increase forest resiliency and sustainability, reduce risk of undesirable fire effects, improve terrestrial and aquatic species habitat, improve the condition and function of streams and springs, restore woody riparian vegetation, preserve cultural resources, and support sustainable forest products industries.

Proposed Action

To meet the purpose and need for the Rim Country Project and move the project area toward desired conditions, the Apache-Sitgreaves, Coconino, and Tonto National Forests propose mechanical thinning, prescribed fire, and other restoration activities throughout the project area that would make the forest more resilient to natural disturbances such as fire, insects and disease, and climate change. Restoration activities are needed to maintain or restore forest structure and pattern, desired fire regimes, and watershed and ecosystem function in ponderosa pine, ponderosa pine-Gambel oak, ponderosa pine-evergreen oak, frequent fire mixed conifer (dry mixed conifer), aspen, and grassland cover types, moving them toward conditions within the natural range of variation. Facilitative operations may be needed in other cover types (such as pinyon juniper) to enable or complete treatments in target cover types, by reducing uncharacteristic fire risk, reducing ground disturbance from fireline construction, or improving operability. Restoration activities proposed for the Rim Country project area include:

• Mechanically thin trees and/or implement prescribed fire on approximately 952,330 acres.

○ Mechanically thin trees and implement prescribed fire on approximately 1,260 acres in the Long Valley Experimental Forest (in coordination with the Rocky Mountain Research Station).

○ Implement prescribed fire alone on approximately 45,290 acres.

○ Mechanically thin and/or implement prescribed fire on approximately 68,360 acres of Mexican spotted owl (MSO) protected activity centers (PACs), approximately 128,800 acres of MSO recovery habitat, and approximately 500,940 acres of northern goshawk habitat.

○ Mechanically thin trees and/or implement prescribed fire to restore approximately 40,760 acres of grasslands and meadows (includes 21,550 acres of grassland cover type).

○ Conduct facilitative operations (thin and/or burn) on up to 157,270 acres of non-target cover types to support treatments in target cover types.

○ Planting, burning, and other activities to encourage reforestation on approximately 69,360 acres of understocked areas that were previously forested.

• Decommission approximately 230 miles of existing system and unauthorized roads on the Coconino and Apache-Sitgreaves NFs.

• Decommission approximately 20 miles of unauthorized roads on the Tonto NF.

• Improve approximately 150 miles of existing non-system roads and construct approximately 350 miles of temporary roads for haul access; decommission when treatments are completed.

• Relocate and reconstruct existing open roads adversely affecting water quality and natural resources, or of concern to human safety.

• Restore hydrologic function and vegetation on approximately 9,570 acres of meadows.

• Restore approximately 184 springs.

• Restore function in up to 470 miles of riparian streams and intermittent and ephemeral stream channels (non-riparian).

• Restore up to 360 miles of stream habitat for threatened, endangered, and sensitive aquatic species.

• Construct up to 200 miles of protective barriers around springs, aspen, Bebb's willows, and big-tooth maples, as needed for restoration.

Possible Alternatives

A full range of alternatives to the proposed action, including a no action alternative, will be considered. The no action alternative represents no change and serves as the baseline for the comparison of the action alternatives.

Forest Plan Amendments

To meet the project's purpose and need, the existing Coconino and Tonto Forest Plans would need to be amended to provide for areas of grass, forbs, and shrubs interspersed with tree groups and allow for treatments to move tree group patterns, interspaces, and stand density toward the natural range of variability. Amending these forest plans would allow for treatments that improve MSO nesting and roosting habitat as defined in the Mexican spotted owl recovery plan. The desired conditions related in the project's purpose and need are consistent with the revised Apache-Sitgreaves Forest Plan. Amendments to the Coconino and Tonto Forest Plans would provide consistency in meeting desired conditions for ponderosa pine and mixed conifer forests across the Rim Country project area.

Lead and Cooperating Agencies

Cooperating Agency status has been designated to the Arizona Game and Fish Department (Department) to assist the Apache-Sitgreaves, Tonto, and Coconino National Forests in the preparation of the 4FRI Rim Country EIS, pursuant to the terms the Master Memorandum of Understanding (10-MU-11031600-019) between the Department and the Forest Service.

Responsible Official

The responsible officials are the Apache-Sitgreaves, Coconino, and Tonto National Forest Supervisors.

Nature of Decision To Be Made

Given the purpose and need of the project, the forest supervisors will review the proposed action, other alternatives, and the environmental effects analysis in order to determine: (1) Which alternative, or combination of alternatives, should be implemented; (2) the location and treatment methods for all restoration activities; (3) the design features, mitigation measures and monitoring requirements; and, (4) consistency with the forest plans in place at the time of the decision and the need for amendments.

Scoping Process

This notice of intent initiates the scoping process for the 4FRI Rim Country Project, which guides the development of the environmental impact statement. Public meetings are planned during the scoping period for the purposes of discussing and gathering comments on the proposed action. Meetings are planned on Thursday, July 14 in Show Low, AZ, and on Thursday, July 21 in Payson, AZ. For times and locations and other scheduled meetings, please visit the 4FRI Web site: http://www.fs.usda.gov/goto/4FRIRimCountry. Please contact Annette Fredette at (928) 226-4684 for additional information.

The intent of this comment period is to provide those interested in or affected by this proposed action with an opportunity to make their concerns known. Written, hand-delivered, electronic, and facsimile comments concerning this proposed action will be accepted. We invite you to provide any substantive comments you might have regarding the proposed action for the 4FRI Rim Country Project, those that are within the scope of the project and the decision to be made, are specific to the proposed activities and the project area, and have a direct relationship to the project. Please provide supporting reasons for us to consider. If you cite or include references with your comments, you need to state specifically how those references relate to the proposed action. Please include hard copies or internet links to any references to which you refer. It is important that reviewers provide their comments at such times and in such manner that they are useful to the agency's preparation of the environmental impact statement. Therefore, comments should be provided prior to the close of the comment period and should clearly articulate the reviewer's concerns and contentions.

This proposed project is an action implementing three land management plans and is subject to the objection process described in 36 CFR 218 Subparts A and B. As such, individuals and organizations wishing to be eligible to file a predecisional objection must meet the information requirements in 36 CFR 218. Names and contact information submitted with comments will become part of the public record and may be released under the Freedom of Information Act. However, comments submitted anonymously will also be accepted and considered.

Dated: June 20, 2016.
Scott Russell,
4FRI Chief Executive.

[FR Doc. 2016-15104 Filed 6-24-16; 8:45 am]

BILLING CODE 3410-11-P